GENERAL SERVICES ADMINISTRATION

[OMB Control No. 3090-00XX; Docket No. 2010-0002; Sequence 20]

Information Collection; Central Contractor Registration Requirements for Prime Grant Recipients

AGENCY: Office of Technology Strategy/Office of Governmentwide Policy, General Services Administration (GSA).

ACTION: Notice of request for public comments regarding a new OMB information clearance.

SUMMARY: Under the provisions of the Paperwork Reduction Act of 1995 (44 U.S.C. Chapter 35), the Regulatory Secretariat will be submitting to the Office of Management and Budget (OMB) a request to review and approve an emergency new information collection requirement regarding Central Contractor Registration Requirements for Prime Grant Recipients.

Public comments are particularly invited on: Whether this collection of information is necessary for the proper performance of functions of the Central Contractor Registration Requirements for Prime Grant Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 21, 2010.

ADDRESSES: Submit comments identified by Information Collection 3090-00XX, Central Contractor Registration Requirements for Prime Grant Recipients by any of the following methods:

• Regulations.gov: http://www.regulations.gov.

Submit comments via the Federal eRulemaking portal by inputting “Information Collection 3090-XXXX, Central Contractor Registration Requirements for Prime Grant Recipients” under the heading “Enter Keyword or ID” and selecting “Search”. Select the link “Submit a Comment” that corresponds with “Information Collection 3090-XXXX, Central Contractor Registration Requirements for Prime Grant Recipients”. Follow the instructions provided at the “Submit a Comment” screen. Please include your name, company name (if any), and “Information Collection 3090-XXXX, Central Contractor Registration Requirements for Prime Grant Recipients” on your attached document.

• Fax: 202-501-4067.

• Mail: General Services Administration, Regulatory Secretariat (MVCB), 1800 F Street, NW., Room 4041, Washington, DC 20405. ATTN: Hada Flowers/IC 3090-XXXX.

Instructions: Please submit comments only and cite Information Collection 3090-XXXX, Central Contractor Registration Requirements for Prime Grant Recipients, in all correspondence related to this collection. All comments received will be posted without change to http://www.regulations.gov, including any personal and/or business confidential information provided.

FOR FURTHER INFORMATION CONTACT: Ms. Janice Miller, Program Analyst, Office of Technology Strategy/Office of Governmentwide Policy, at jan.miller@gsa.gov.

SUPPLEMENTARY INFORMATION:

A. Purpose

This information collection requires information necessary for prime awardee registration into the FFATA Subaward Reporting System (FSRS) and review of its entity-related information. This will allow for prime awardee reporting of subaward and executive compensation data pursuant to the Federal Funding Accountability and Transparency Act (FFATA, or Transparency Act). This information collection requires that all prime grant awardees, subject to reporting under the Transparency Act register and maintain their registration in CCR.

B. Annual Reporting Burden

Respondents: 23,358.

Responses Per Respondent: 1.

Hours per Response: 1.

Total Burden Hours: 23,358.

Obtaining Copies Of Proposals: Requesters may obtain a copy of the information collection documents from the General Services Administration, Regulatory Secretariat (MVCB), 1800 F Street, NW., Room 4041, Washington, DC 20405, telephone (202) 501-4755. Please cite OMB Control No. 3090-XXXX, Central Contractor Registration Requirements for Prime Grant Recipients, in all correspondence.

Dated: July 20, 2010.
Daryle M. Seckar,
Acting Chief Information Officer.

[FR Doc. 2010-18138 Filed 7-22-10; 8:45 am]

BILLING CODE 6820-WY-P